DEPARTMENT OF TRANSPORTATION

Federal Aviation Administration

Notice of Intent to Request Approval from the Office of Management and Budget of a New Information Collection Activity, Request for Comments; Aeronautical Chart Point of Sale Survey

AGENCY: Federal Aviation Administration (FAA), DOT.

ACTION: Notice and request for comments.

SUMMARY: The FAA invites public comments about our intention to request the Office of Management and Budget (OMB) to approve a new information collection. Aeronautical Chart Point of Sale Survey data will be used by the Federal Aviation Administration to measure management objectives and analyze customer feedback for ISO-9001.

DATES: Please submit comments by November 2, 2009.

FOR FURTHER INFORMATION CONTACT: Carla Mauney on (202) 267-9895, or by e-mail at: Carla.Mauney@faa.gov.

SUPPLEMENTARY INFORMATION:

Federal Aviation Administration (FAA)

Title: Aeronautical Chart Point of Sale Survey.

Type of Request: New collection.

OMB Control Number: 2120-XXXX.

Forms(s): There are no FAA forms associated with this collection.

Affected Public: A total of 320 Respondents.

Frequency: The information is collected semi-annually.

Estimated Average Burden per Response: Approximately 5 minutes per response.

Estimated Annual Burden Hours: An estimated 53 hours annually.

Abstract: Survey data will be used by the Federal Aviation Administration to measure management objectives and analyze customer feedback for ISO-9001.

ADDRESSES: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on August 24, 2009.
Carla Mauney,
FAA Information Collection Clearance Officer, IT Enterprises Business Services Division, AES-200.

[FR Doc. E9-21062 Filed 9-1-09; 8:45 am]

BILLING CODE 4910-13-M